DEPARTMENT OF JUSTICE

Notice of Lodging of Consent Decree Under Comprehensive Environmental Response, Compensation and Liability Act

Under 28 CFR 50.7, notice is hereby given that on October 30, 2008, three proposed and related Consent Decrees in United States v. American Hoechst Corp., et al., No. 3:08cv1509, United States v. A. R. Sandri, Inc., et al., No. 3:08cv1508, and United States v. M. Swift & Sons, Inc., et al., No. 3:08cv1507, were lodged with the United States District Court for the District of Connecticut.

The proposed Consent Decrees resolve claims of the United States, on behalf of the Environmental Protection Agency (“EPA”), under the Comprehensive Environmental Response, Compensation, and Liability Act (“CERCLA”), 42 U.S.C. 9601 et seq., in connection with the Solvents Recovery Service of New England, Inc. Superfund Site in Southington, Connecticut (“Site”), against 272 defendants.

The proposed Consent Decree in U.S. v. American Hoechst Corp., et al. requires 58 defendants to perform the Remedial Design/Remedial Action (“RD/RA”) set forth in the Record of Decision (“ROD”) for the Site. The remedy includes heating, capturing and treating waste oils and solvents in the subsurface soils; excavating, consolidating and capping contaminated soil and wetland soil onsite; continuing to pump and treat contaminated groundwater; implementation of restrictions on uses of the site property and groundwater; and long term monitoring of the cap and groundwater to ensure that the cleanup remains protective of human health and the environment. EPA estimates the cost of the remedy at $29.9 million. This Consent Decree also requires the defendants: (1) To pay $2.2 million to EPA for its past response costs; (2) to pay $3.7 million to EPA from a trust account containing funds which have been set aside for those parties that would later agree to implement the ROD, in further reimbursement of EPA's past costs; (3) to pay EPA for its future costs; (4) to pay the U.S. Department of the Interior $200,000 for federal natural resource damages, including the costs of assessing those damages; and (5) to pay the State of Connecticut $2,625,000 for damages to natural resources under the State's trusteeship, including the costs of assessing those damages.

The proposed Consent Decree in U.S. v. A.R. Sandri, Inc., et al. requires 213 de minimis defendants to pay $23.3 million. These funds will be deposited into a trust and will be used to partially fund the performance of the remedy and the payments required under the settlement in U.S. v. American Hoechst Corp., et al.

The proposed Consent Decree in U.S. v. M. Swift and Sons, Inc. requires the sole settlor: (1) To pay $903,861 to EPA in reimbursement of its past response costs; (2) to pay $2,775 to DOI for federal natural resource damages including the costs of assessing those damages; and (3) to pay $43,364 to the State for damages to natural resources under the State's trusteeship, including the costs of assessing those damages.

All three proposed Consent Decrees provide that the settlors are entitled to contribution protection as provided by section 113(f)(2) of CERCLA, 42 U.S.C. 9613(f)(2) for matters addressed by the settlements.

The Department of Justice will receive for a period of 30 days from the date of this publication comments relating to the proposed Consent Decrees. Comments should be addressed to the Assistant Attorney General of the Environment and Natural Resources Division, Department of Justice, Washington, DC 20530, and either e-mailed to pubcomment-ees.enrd@usdoj.gov or mailed to P.O. Box 7611, U.S. Department of Justice, Washington, DC 20044-7611, and should refer to: (1) United States v. American Hoechst Corp., et al., No. 3:08cv1509, D.J. No. 90-7-1-23/6; (2) United States v. A. R. Sandri, Inc., et al., No. 3:08cv1508, D.J. No. 90-7-1-23/8; or (3) United States v. M. Swift & Sons, Inc., et al., No. 3:08cv1507, D.J. No. 90-7-1-23/7. Commenters may request an opportunity for a public meeting in the affected area, in accordance with Section 7003(d) of RCRA, 42 U.S.C. 6973(d).

The proposed Consent Decrees may be examined at the Office of the United States Attorney, District of Connecticut, Connecticut Financial Center, 157 Church Street, New Haven, CT 06510. During the public comment period, the proposed Consent Decrees may also be examined on the following Department of Justice Web site, http://www.usdoj.gov/enrd/Consent_Decrees.html. Copies of the proposed Consent Decrees may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the any of the proposed Consent Decrees, please enclose a check in the amount of $159.50 for the United States v. American Hoechst Corp. settlement (25 cent per page reproduction cost), $65.75 for the United States v. A. R. Sandri, Inc. settlement; and/or $5.25 for the United States v. M. Swift & Sons, Inc. settlement, payable to the U.S. Treasury.

Maureen M. Katz,
Assistant Chief, Environmental Enforcement Section, Environment and Natural Resources Division.

[FR Doc. E8-26431 Filed 11-5-08; 8:45 am]

BILLING CODE 4410-15-P